DEPARTMENT OF EDUCATION

Notice of Meeting

AGENCY: National Advisory Committee on Institutional Quality and Integrity (NACIQI or Committee), Office of Postsecondary Education, Department of Education.

ACTION: Announcement of an open meeting.

SUMMARY: This notice sets forth the agenda, time, and instructions to access or participate in the February 27-28, 2024, hybrid meeting of NACIQI, and provides information to members of the public regarding the meeting, including requesting to make written or oral comments. Committee members will meet in-person while accrediting agency representatives and members of the public will participate virtually. The notice of this meeting is required under section 1009(a)(2) of 5 U.S.C. chapter 10 (Federal Advisory Committees) and section 114(d)(1)(B) of the Higher Education Act of 1965, as amended (HEA).

ADDRESSES: Lyndon Baines Johnson Department of Education Building, Barnard Auditorium, 400 Maryland Avenue SW, Washington, DC 20202 [Only NACIQI members and Department of Education staff will participate in the meeting at this address].

DATES: The hybrid NACIQI meeting will be held on February 27-28, 2024, from 9:00 a.m. to 5:00 p.m. Eastern Standard Time.

FOR FURTHER INFORMATION CONTACT: George Alan Smith, Executive Director/Designated Federal Official (DFO), NACIQI, U.S. Department of Education, 400 Maryland Avenue SW, Washington, DC 20202, telephone: (202) 453-7757, or email: George.Alan.Smith@ed.gov.

SUPPLEMENTARY INFORMATION:

Statutory Authority and Function: NACIQI is established under Section 114 of the HEA (20 U.S.C. 1011c). NACIQI advises the Secretary of Education with respect to:

• The establishment and enforcement of the standards of accrediting agencies or associations under subpart 2, part H, Title IV of the HEA, as amended;

• The recognition of specific accrediting agencies or associations;

• The preparation and publication of the list of nationally recognized accrediting agencies and associations;

• The eligibility and certification process for institutions of higher education under Title IV of the HEA, together with recommendations for improvement in such process;

• The relationship between (1) accreditation of institutions of higher education and the certification and eligibility of such institutions, and (2) State licensing responsibilities with respect to such institutions; and

• Any other advisory functions relating to accreditation and institutional eligibility that the Secretary of Education may prescribe by regulation.

Meeting Agenda

The purpose of the meeting is to conduct a review of the following applications for renewal of recognition, compliance reports, and requests for expansion of scope.

Applications for Renewal of Recognition

1. The Kansas State Board of Nursing. Scope of Recognition: state agency for the approval of nurse education.

2. The Missouri State Board of Nursing. Scope of Recognition: state agency for the approval of nurse education.

3. The Oklahoma Board of Career and Technology Education. Scope of Recognition: the approval of public postsecondary vocational education offered at institutions in the State of Oklahoma that are not under the jurisdiction of the Oklahoma State Regents for Higher Education, including the approval of public postsecondary vocational education offered via distance education.

4. New York State Board of Regents (Public Postsecondary Vocational Ed, Practical Nursing). Scope of Recognition: state agency for the approval of public postsecondary vocational education in the field of practical nursing offered by a Board of Cooperative Educational Services, an Educational Opportunity Center, City School Districts, and County Boards of Supervisors to prepare persons for licensed practical nursing careers in the State of New York.

5. The Pennsylvania State Board of Career and Technical Education. Scope of Recognition: state agency for the approval of public postsecondary vocational education.

Compliance Reports

1. Accreditation Commission for Acupuncture and Herbal Medicine (ACAHM). Scope of recognition: the accreditation and pre-accreditation (“Candidacy”) of professional non-degree and graduate degree programs, including professional doctoral programs, in the field of acupuncture and/or Oriental medicine, as well as freestanding institutions and colleges of acupuncture and/or Oriental medicine that offer such programs, including programs offered via distance education. Geographic Area of Accrediting Activities: throughout the United States. Please note, this accrediting agency changed its name from “Accreditation Commission for Acupuncture and Oriental Medicine (ACAOM)” effective September 8, 2021.

The compliance report must address findings of noncompliance with 34 CFR part 602, as referenced in the senior Department official's (SDO) decision letter dated October 27, 2021. The SDO also required that the Department staff's 34 CFR 602.33 inquiry findings concerning the Seldin/Haring-Smith Foundation case study on Sex Trafficking and State Authorized Massage Schools, which involved an ACAHM accredited institution, be produced as part of the ACAHM compliance report. The SDO decision letter may be found under NACIQI meeting date July 27, 2021, available at: https://surveys.ope.ed.gov/erecognition/#/public-documents.

2. Council on Occupational Education. Scope of recognition: the accreditation and pre-accreditation (“Candidacy Status”) of postsecondary occupational education institutions offering non-degree and applied associate degree programs in specific career and technical education fields, including institutions that offer programs via distance education. Geographic Area of Accrediting Activities: throughout the United States.

The compliance report must address findings of noncompliance with 34 CFR part 602, as referenced in the SDO decision letter dated October 27, 2021. The SDO decision letter may be found under NACIQI meeting date July 27, 2021, available at: https://surveys.ope.ed.gov/erecognition/#/public-documents.

3. Transnational Association of Christian Colleges and Schools, Accreditation Commission. Scope of Recognition: the accreditation and pre-accreditation (“Candidate” status) of Christian postsecondary institutions that offer certificates, diplomas, and associate, baccalaureate, and graduate degrees, including institutions that offer distance education. Geographic Area of Accrediting Activities: throughout the United States. The compliance report must address findings of noncompliance with 34 CFR part 602, as referenced in the SDO decision letter dated October 27, 2021. The SDO decision letter may be found under NACIQI meeting date July 27, 2021, available at: https://surveys.ope.ed.gov/erecognition/#/public-documents.

Expansion of Scope

1. National Nurse Practitioner Residency and Fellowship Training Consortium. Scope of Recognition: the accreditation of nurse practitioner (NP) postgraduate residency and fellowship training programs. This recognition also extends to the agency's Appeals Panel. Requested Scope: the accreditation of joint nurse practitioner/physician assistant postgraduate residency and fellowship training programs. This recognition also extends to the agency's Appeals Panel.

Accreditor Dashboards

Agency representatives should be prepared to respond to possible questions from committee members about their respective agency's dashboards, which are located on the NACIQI website: https://sites.ed.gov/naciqi/.

Agency Opening Statements

To ensure sufficient time for all agency reviews, including NACIQI questions and discussion, the Department requests that the agencies limit their opening statements to 10 minutes (total for one or more statements), and that the agencies avoid extended discussions about agency representatives and their backgrounds. Following the brief opening statement, the agency's presentation should focus on the regulatory criteria, and in particular, responses to areas where the staff has recommended a finding of noncompliance or substantial compliance, or where other concerns have been raised that the agency would like to address. However, the agency should expect that questions from NACIQI members may focus on other areas.

Administration Policy Update

A representative of the Administration will discuss higher education policy priorities.

Accreditor Dashboards Subcommittee Report

The subcommittee will report on information it received from interviews conducted with institutional accreditors.

Policy Discussion

In addition to its review of accrediting agencies and State approval agencies for Secretarial recognition, there will be time for Committee discussions relevant to any of the functions within NACIQI's statutory authority.

Instructions To Access or Participate in the Meeting Registration

Accrediting agency representatives and members of the public can access or participate in the meeting virtually. You may register for the meeting on your computer using the link below. After you register, you will receive a confirmation email containing personalized participation links for each day of the two-day meeting.

Registration Link

https://cvent.me/lMYY3g.

Public Comment

Submission of requests to make an oral comment regarding a specific accrediting agency under review, or to make an oral comment or written statement regarding other issues within the scope of NACIQI's authority:

The opportunity to submit a written statement regarding a specific accrediting agency under review was solicited by a previous Federal Register notice published on November 14, 2022 (87 FR 68144; Document Number 2022-24637). The period for submission of such statements is now closed. Additional written statements regarding a specific accrediting agency or state approval agency under review will not be accepted at this time. However, members of the public may submit written statements regarding other issues within the scope of NACIQI's authority, as outlined under Section 114 of the HEA (20 U.S.C. 1011c), in the manner described below.

Members of the public may make oral comments regarding a specific accrediting agency under review and/or other issues within the scope of NACIQI's authority. Oral comments may not exceed three minutes. Oral comments about an agency's recognition when a compliance report has been required by the SDO or the Secretary must relate to the criteria for recognition cited in the SDO's letter that requested the report, or in the Secretary's appeal decision, if any. Oral comments about an agency seeking expansion of scope must be directed to the agency's ability to serve as a recognized accrediting agency with respect to the kinds of institutions or programs requested to be added. Oral comments about the renewal of an agency's recognition must relate to its compliance with the criteria for the Recognition of Accrediting Agencies, which are available at http://www.ed.gov/admins/finaid/accred/index.html.

Written statements and oral comments concerning NACIQI's work outside of a specific accrediting agency under review must be limited to matters within the scope of NACIQI's authority, as outlined under Section 114 of the HEA (20 U.S.C. 1011c), and written statements of any kind submitted after the deadline will not be considered by the Department or provided to NACIQI for purposes of the current cycle review.

Instructions on Requesting To Make Public Comment

To make oral comments of three minutes or less during the meeting, please follow either Method One or Method Two below. To submit a written statement concerning NACIQI's work outside a specific accrediting agency under review, please follow Method One.

Method One: Send an email to the ThirdPartyComments@ed.gov mailbox no later than February 20, 2024. Please do not send material directly to NACIQI members. Emails submitting written statements must include the subject line “Written Statement: (subject)” and emails requesting to make oral comment must include the subject line “Oral Comment Request: (agency name),” “Oral Comment Request: (subject).” Emails must include the name(s), title, organization/affiliation, mailing address, email address, and telephone number, of the person(s) submitting a written statement or requesting to speak. All individuals submitting a request to make oral comment in accordance with Method One will be afforded an opportunity to speak.

Method Two (Only available to those seeking to make oral comments): Submit a request by email on February 27, 2024, between 7:45 a.m.-8:45 a.m. Eastern Standard Time to the ThirdPartyComments@ed.gov mailbox. The email must include the subject on which the requestor wishes to comment, in addition to his or her name, title, organization/affiliation, mailing address, email address, and telephone number. If you intend to make your comments by dialing into the meeting rather than using a computer, please be sure to include that information in your email request. A total of up to fifteen minutes for each agenda item will be allotted for oral commenters who submit a request in accordance with Method Two. Individuals will be selected on a first-come, first-served basis. If selected, each commenter may not exceed three minutes.

Access to Records of the Meeting: The Department will post the official report of the meeting on the NACIQI website https://sites.ed.gov/naciqi/archive-of-meetings/ within 90 days after the meeting. In addition, pursuant to 5 U.S.C. 1009(b), the public may request to inspect records of the meeting at 400 Maryland Avenue SW, Washington, DC, by emailing aslrecordsmanager@ed.gov or by calling (202) 453-7415 to schedule an appointment. The SDO's (as defined in 34 CFR 602.3) decisions, pursuant to 34 CFR 602.36, associated with all NACIQI meetings can be found at the following website: https://surveys.ope.ed.gov/erecognition/#/public-documents.

Reasonable Accommodations: The dial-in information and weblink access to the meeting are accessible to individuals with disabilities. If you will need an auxiliary aid or service to participate in the meeting (e.g., interpreting service, assistive listening device, or materials in an alternate format), notify the contact person listed in this notice at least two weeks before the scheduled meeting date. Although we will attempt to meet a request received after that date, we may not be able to make available the requested auxiliary aid or service because of insufficient time to arrange it.

Electronic Access to This Document: The official version of this document is the document published in the Federal Register. Free internet access to the official edition of the Federal Register and the Code of Federal Regulations is available via the Federal Digital System at: www.gpo.gov/fdsys. At this site you can view this document, as well as all other documents of the Department published in the Federal Register, in text or Adobe Portable Document Format (PDF). To use PDF, you must have Adobe Acrobat Reader, which is available free at the site. You also may access documents of the Department published in the Federal Register by using the article search feature at: www.federalregister.gov. Specifically, through the advanced search feature at this site, you can limit your search to documents published by the Department.

Authority: Section 114 of the HEA of 1964, as amended (20 U.S.C. 1011c).

Antoinette Flores,
Deputy Assistant Secretary for Policy, Planning and Innovation, Office of Postsecondary Education.

[FR Doc. 2024-01683 Filed 1-26-24; 8:45 am]

BILLING CODE P